DEPARTMENT OF DEFENSE

48 CFR Part 253

[DFARS Case 2001-D004]

Defense Federal Acquisition Regulation Supplement; Reporting Requirements Update; Correction

AGENCY: Department of Defense (DoD).

ACTION: Correction to final rule.

SUMMARY: DoD is issuing a correction to the final rule published at 66 FR 47096-47107 on September 11, 2001, pertaining to contract action reporting requirements for Fiscal Year 2002.

EFFECTIVE DATE: October 1, 2001.

FOR FURTHER INFORMATION CONTACT: Ms. Susan Schneider, Defense Acquisition Regulations Council, OUSD (AT&L) DP (DAR), IMD 3C132, 3062 Defense Pentagon, Washington, DC 20301-3062. Telephone (703) 602-0326; facsimile (703) 602-0350.

Correction

In the issue of Tuesday, September 11, 2001, on page 47100, in the first column, section 253.204-70, paragraph (b)(12)(vii) introductory text is corrected to read “(vii) LINE B12G, RECOVERED MATERIAL CLAUSES. When Line B12F is coded A, B, C, or D, enter one of the following codes. Otherwise, leave Line B12G blank.”.

Michele P. Peterson,
Executive Editor, Defense Acquisition Regulations Council.

[FR Doc. 01-23688 Filed 9-20-01; 8:45 am]

BILLING CODE 5000-04-M